DEPARTMENT OF COMMERCE

National Oceanic and Atmospheric Administration

[I.D. 051800A]

Endangered Species; Permits

AGENCY: National Marine Fisheries Service (NMFS), National Oceanic and Atmospheric Administration (NOAA), Commerce.

ACTION: Issuance of permit 1235.

SUMMARY: Notice is hereby given that NMFS has issued a permit to the City of Seattle (City) that authorizes incidental take of Endangered Species Act-listed anadromous fish, subject to certain conditions set forth therein.

ADDRESSES: The applications and related documents are available for review in the following office, by appointment:

Washington State Habitat Branch, 510 Desmond Drive SE, Suite 103, Lacey, WA 98503

FOR FURTHER INFORMATION CONTACT: Steve Landino (360-753-9530)

SUPPLEMENTARY INFORMATION: The permit and permit amendment were issued under the authority of section 10(a)(1)(B) of the Endangered Species Act of 1973 (ESA) (16 U.S.C. 1531-1543) and the NMFS regulations governing ESA-listed fish and wildlife permits (50 CFR parts 222-227).

The City's covered activities include watershed management and related operations as described in the Cedar River Watershed Habitat Conservation Plan (HCP) and associated Draft Environmental Assessment (EA), Final EA and Finding of No Significant Impact (FONSI). The FONSI was signed on April 19, 2000.

Notice was published on December 11, 1998, and January 5, 1999 (63 FR 68469, and 64 FR 480) that an application had been filed by the City for an incidental take permit. Permit 1235 was issued to the City on April 21, 2000. Permit 1235 authorizes the City incidental take of threatened Puget Sound (PS) chinook (Oncorhynchus tshawytscha). As well, other anadromous fish that are not now ESA-listed are covered species and would be included on the permit at time of listing. Permit 1235 expires on December 31, 2050.

Issuance of the permit was based on a finding that the City had met the permit issuance criteria of 50 CFR 222.22(c). The permit will take effect for listed covered species on the effective date of a rule under Section 4(d) of the ESA prohibiting take of the species. For unlisted covered species, the permit will take effect upon the listing of a species as endangered, and for a species listed as threatened, on the effective date of a rule under Section 4(d) of the ESA prohibiting take of the species.

Dated: May 24, 2000.
Wanda L. Cain,
Chief, Endangered Species Division, Office of Protected Resources, National Marine Fisheries Service.

[FR Doc. 00-13430 Filed 5-26-00; 8:45 am]

BILLING CODE 3510-22-F